DEPARTMENT OF COMMERCE

Foreign-Trade Zones Board

[Order No. 1269]

Approval of Request for Manufacturing Authority Within Foreign-Trade Zone 46, Cincinnati, OH (Automobile Transmissions)

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Greater Cincinnati Foreign Trade Zone, Inc., grantee of FTZ 46, has requested authority under 15 CFR 400.31 of the Board's regulations on behalf of ZF Batavia, LLC to manufacture automobile transmissions under zone procedures within Site 3 of FTZ 46 (filed 3-20-2002, FTZ Docket 18-2002);

Whereas, notice inviting public comment was given in Federal Register (67 FR 15527, 4/2/2002) and the application has been processed pursuant to the FTZ Act and the Board's regulations; and,

Whereas, the Board adopts the findings and recommendations of the examiner's report, and finds that the requirements of the FTZ Act and the Board's regulations are satisfied, and that approval of the application would be in the public interest;

Now, therefore, the Board hereby approves the request subject to the Act and the Board's regulations, including 15 CFR 400.28.

Signed at Washington, DC, this 21st day of February 2003.
Faryar Shirzad,
Assistant Secretary of Commerce for Import Administration, Alternate Chairman, Foreign-Trade Zones Board.

[FR Doc. 03-5054 Filed 3-3-03; 8:45 am]

BILLING CODE 3510-DS-P